OFFICE OF PERSONNEL MANAGEMENT

5 CFR Part 532

RIN 3206-AK94

Prevailing Rate Systems; North American Industry Classification System Based Federal Wage System Wage Surveys

AGENCY: Office of Personnel Management.

ACTION: Proposed rule with request for comments.

SUMMARY: The Office of Personnel Management is issuing a proposed rule that would replace the Standard Industrial Classification codes currently used in Federal Wage System (FWS) regulations with the more recent North American Industry Classification System (NAICS) codes, published by the Office of Management and Budget. The purpose of this change is to update the FWS wage survey industry regulations by adopting the new NAICS system.

DATES: We must receive comments on or before December 16, 2005.

ADDRESSES: Send or deliver comments to Donald J. Winstead, Deputy Associate Director for Pay and Performance Policy, Strategic Human Resources Policy Division, Office of Personnel Management, Room 7H31, 1900 E Street, NW., Washington, DC 20415-8200; e-mail pay-performance-policy@opm.gov; or FAX: (202) 606-4264.

FOR FURTHER INFORMATION CONTACT: Madeline Gonzalez, (202) 606-2838; e-mail pay-performance-policy@opm.gov; or FAX: (202) 606-4264.

SUPPLEMENTARY INFORMATION: The goal of the Federal Wage System (FWS) is to pay blue-collar Federal employees according to local prevailing rates. To determine local prevailing rates, the Department of Defense, the lead agency for all regular FWS wage surveys, collects wage data for a prescribed list of industries in each FWS wage area annually. The Office of Personnel Management (OPM) is responsible for prescribing the required industries to be surveyed and the conditions under which required industrial coverage may be augmented for particular surveys. Under the current regulations, the industries surveyed are defined under the Standard Industrial Classification (SIC) system. The Office of Management and Budget developed the North American Industry Classification System (NAICS) to replace the SIC system. NAICS was developed jointly by the United States, Canada, and Mexico to provide comparability in statistics about business activity across North America.

NAICS groups establishments into industries based on the activities in which they are primarily engaged. It is a comprehensive system covering the entire field of economic activities. NAICS groups the economy into 20 broad sectors and uses a 6-digit coding system to identify particular industries. The first two digits of the code designate the sector, the third digit designates the subsector, the fourth digit designates the industry group, the fifth digit designates the NAICS industry, and the sixth digit designates the national industry.

Because NAICS is now the official industry classification system used in the United States, the Federal Prevailing Rate Advisory Committee (FPRAC), the national labor-management committee responsible for advising OPM on matters concerning the pay of FWS employees, established a Wage Survey Methodology Work Group (Work Group) to study the desirability and feasibility of replacing the SIC codes currently used in FWS regulations with NAICS codes and the effect this change would have on industry coverage for FWS wage surveys. The following sections of title 5, Code of Federal Regulations, list the industries included in the FWS wage surveys by SIC codes:

Section 532.213 Industries included in regular appropriated fund wage surveys.

Section 532.221 Industries included in regular nonappropriated fund surveys.

Section 532.267 Special wage schedules for aircraft, electronic, and optical instrument overhaul and repair positions in the Puerto Rico wage area.

Section 532.279 Special wage schedules for printing positions.

Section 532.285 Special wage schedules for supervisors of negotiated rate Bureau of Reclamation employees.

Section 532.313 Private sector industries.

The Work Group recommended to FPRAC that OPM replace all SIC codes in the FWS regulations with the most closely corresponding NAICS codes. In effect, this would update the FWS wage survey industry regulations by adopting the NAICS system, while making as few changes as possible in the types of industrial establishments that are already included in FWS wage surveys under the SIC system. FPRAC agreed with the Work Group's recommendation, and OPM concurs with FPRAC's recommendation.

Regulatory Flexibility Act

I certify that these regulations would not have a significant economic impact on a substantial number of small entities because they would affect only Federal agencies and employees.

E.O. 12866, Regulatory Review

The Office of Management and Budget has reviewed this proposed rule in accordance with Executive Order 12866.

List of Subjects in 5 CFR Part 532

Administrative practice and procedure, Freedom of information, Government employees, Reporting and recordkeeping requirements, Wages.

Office of Personnel Management.
Linda M. Springer,
Director.

Accordingly, the Office of Personnel Management proposes to amend 5 CFR part 532 as follows:

PART 532—PREVAILING RATE SYSTEMS

1. The authority citation for part 532 continues to read as follows:

Authority: 5 U.S.C. 5343, 5346; § 532.707 also issued under 5 U.S.C. 552.

Subpart B—Prevailing Rate Determinations

2. In § 532.213, revise paragraph (a) to read as follows:

§ 532.213 Industries included in regular appropriated fund wage surveys.

(a) The lead agency must include the industries in the following North American Industry Classification System (NAICS) codes in all regular appropriated fund wage surveys:

Manufacturing | NAICS 311 through 339 (except 323) | All manufacturing classes except printing and related support activities (NAICS 323).
Transportation, Communications, Electric, Gas, and Sanitary Services | NAICS 221 NAICS 481 NAICS 482 NAICS 484 | Utilities. Air transportation. Rail transportation. Truck transportation.
| NAICS 485 (except 4853) | Transit and ground passenger transportation except taxi and limousine service (NAICS 4853).
| NAICS 487 (except 4872) | Scenic and sightseeing transportation except scenic and sightseeing transportation, water (NAICS 4872).
| NAICS 488 (except 4883 and 4884) | Support activities for transportation except support activities for water transportation (NAICS 4853) and support activities for road transportation (NAICS 4854).
| NAICS 492 NAICS 493 NAICS 515 NAICS 517 NAICS 5621 NAICS 5622 | Couriers and messengers. Warehousing and storage. Broadcasting (except Internet). Telecommunications. Waste collection. Waste Treatment and Disposal.
Wholesale Trade | NAICS 423 NAICS 424 | Merchant wholesalers—durable goods. Merchant wholesalers—nondurable goods.

* * * * *

3. In § 532.221, revise paragraph (a) to read as follows:

§ 532.221 Industries included in regular nonappropriated fund surveys.

(a) The lead agency must include the following North American Industry Classification System (NAICS) codes in all regular nonappropriated fund wage surveys:

NAICS | Title
Wholesale Trade:
42312 | Motor vehicle supplies and new parts.
4232 | Furniture and home furnishing.
42362 | Electrical and electronic appliance, television, and radio set.
42369 | Other electronic parts and equipment.
42371 | Hardware.
42391 | Sporting and recreational goods and supplies.
42399 | Other miscellaneous durable goods.
4241 | Paper and paper product.
42421 | Drugs and druggists' sundries.
4243 | Apparel, piece goods, and notions.
42445 | Confectionery.
4247 | Petroleum and petroleum products.
4249 | Miscellaneous nondurable goods.
Retail:
44132 | Tire dealers.
44311 | Appliance, television, and other electronic stores.
44411 | Home centers.
44611 | Pharmacies and drug stores.
4471 | Gasoline stations.
44814 | Family clothing stores.
4521 | Department stores.
45299 | All other general merchandise stores.
45321 | Office supplies and stationery stores.
4542 | Vending machine operators.
Arts, Entertainment, and Recreation:
71391 | Golf courses and country clubs.
71395 | Bowling centers.
Accommodations and Food Services:
72111 | Hotels (except casino hotels) and motels.
7221 | Full-service restaurants.
7222 | Limited-service eating places.
7224 | Drinking places (alcoholic beverages).

* * * * *

4. In § 532.267, revise paragraph (c)(1) to read as follows:

§ 532.267 Special wage schedules for aircraft, electronic, and optical instrument overhaul and repair positions in the Puerto Rico wage area.

* * * * *

(c) * * *

(1) Surveys must, at a minimum, include the air transportation and electronics industries in the following North American Industry Classification System (NAICS) codes:

NAICS | Title
3341 | Computer and peripheral equipment manufacturing.
33422 | Radio and television broadcasting and wireless communications equipment manufacturing.
33429 | Other communications equipment manufacturing.
3343 | Audio and video equipment manufacturing.
334412 | Bare printed circuit board manufacturing.
334413 | Semiconductor and related device manufacturing.
334418 | Printed circuit assembly (electronic assembly) manufacturing.
334419 | Other electronic component manufacturing.
334511 | Search, detection, navigation, guidance, aeronautical, and nautical system and instrument manufacturing.
334613 | Magnetic and optical recording media manufacturing.
42342 | Office equipment merchant wholesalers.
42343 | Computer and computer peripheral equipment and software merchant wholesalers.
4811 | Scheduled air transportation.
4812 | Nonscheduled air transportation.
4879 | Scenic and sightseeing transportation, other.
4881 | Support activities for air transportation.
4921 | Couriers.
56172 | Janitorial services.
62191 | Ambulance services.
81142 | Reupholstery and furniture repair.

* * * * *

5. In § 532.279, revise paragraphs (c), introductory text, and (c)(1) to read as follows:

§ 532.279 Special wage schedules for printing positions.

* * * * *

(c) The lead agency must establish survey specifications for the printing survey as follows:

(1) The lead agency must include North American Industry Classification System (NAICS) codes 323110 and 323114 in the printing survey and may add other NAICS codes in subsector 323 to the survey based on its survey experience.

* * * * *

6. In § 532.285, revise paragraph (c)(1) to read as follows:

§ 532.285 Special wage schedules for supervisors of negotiated rate Bureau of Reclamation employees.

* * * * *

(c) * * *

(1) Based on Bureau of Reclamation activities and types of supervisory positions in the special wage area, the Bureau of Reclamation must survey private industry companies, with no minimum employment size requirement for establishments, in the following North American Industry Classification System code subsectors:

Subsector | Industry
211 | Oil and gas extraction.
212 | Mining (except oil and gas).
213 | Support activities for mining.
221 | Utilities.
333 | Machinery manufacturing.
334 | Computer and electronic product manufacturing.
335 | Electrical equipment, appliance, and component manufacturing.
484 | Truck transportation.
492 | Couriers and messengers.
493 | Warehousing and storage.
515 | Broadcasting (except Internet).
517 | Telecommunications.
562 | Waste management and remediation services.
811 | Repair and maintenance.

* * * * *

7. Revise § 532.313 to read as follows:

§ 532.313 Private sector industries.

(a) For appropriated fund surveys, the lead agency must use the private sector industries in the following North American Industry Classification System (NAICS) codes when it makes its wage schedule determinations for each specialized Federal industry:

Aircraft
NAICS 332912 | Fluid power valve and hose fitting manufacturing.
NAICS 336411 | Aircraft manufacturing.
NAICS 336412 | Aircraft engine and engine parts manufacturing.
NAICS 336413 | Other aircraft part and auxiliary equipment manufacturing.
NAICS 336415 | Guided missile and space vehicle propulsion unit and propulsion unit parts manufacturing.
NAICS 336419 | Other guided missile and space vehicle parts and auxiliary equipment manufacturing.
NAICS 4811 | Scheduled air transportation.
NAICS 4812 | Nonscheduled air transportation.
NAICS 4879 | Scenic and sightseeing transportation, other.
NAICS 4881 | Support activities for air transportation.
NAICS 4921 | Couriers.
NAICS 54171 | Research and development in the physical, engineering, and life sciences.
NAICS 56172 | Janitorial services.
NAICS 62191 | Ambulance services.
NAICS 81142 | Reupholstery and furniture repair.
Ammunition
NAICS 32592 | Explosives manufacturing.
NAICS 332992 | Small arms ammunition manufacturing.
NAICS 332993 | Ammunition (except small arms) manufacturing.
Artillery and combat vehicles
NAICS 2211 | Electric power generation, transmission, and distribution.
NAICS 2212 | Natural gas distribution.
NAICS 32732 | Ready-mix concrete manufacturing.
NAICS 332212 | Hand and edge tool manufacturing.
NAICS 332323 | Ornamental and architectural metal work manufacturing.
NAICS 332439 | Other metal container manufacturing.
NAICS 332995 | Other ordnance and accessories manufacturing.
NAICS 332999 | All other miscellaneous fabricated metal product manufacturing.
NAICS 33311 | Agricultural implement manufacturing.
NAICS 33312 | Construction machinery manufacturing.
NAICS 333611 | Turbine and turbine generator set unit manufacturing.
NAICS 333618 | Other engine equipment manufacturing.
NAICS 333922 | Conveyor and conveying equipment manufacturing.
NAICS 333923 | Overhead traveling crane, hoist, and monorail system manufacturing.
NAICS 333924 | Industrial truck, tractor, trailer, and stacker machinery manufacturing.
NAICS 3361 | Motor vehicle manufacturing.
NAICS 336211 | Motor vehicle body manufacturing.
NAICS 336212 | Truck trailer manufacturing.
NAICS 336312 | Gasoline engine and engine parts manufacturing.
NAICS 336322 | Other motor vehicle electrical and electronic equipment manufacturing.
NAICS 33633 | Motor vehicle steering and suspension components (except spring) manufacturing.
NAICS 33634 | Motor vehicle brake system manufacturing.
NAICS 33635 | Motor vehicle transmission and power train parts manufacturing.
NAICS 336399 | All other motor vehicle parts manufacturing.
NAICS 33651 | Railroad rolling stock manufacturing.
NAICS 336992 | Military armored vehicle, tank, and tank component manufacturing.
NAICS 4231 | Motor vehicle and motor vehicle parts and supplies merchant wholesalers.
NAICS 42381 | Construction and mining (except oil well) machinery and equipment merchant wholesalers.
NAICS 42382 | Farm and garden machinery and equipment merchant wholesalers.
NAICS 4413 | Automotive parts, accessories, and tire stores.
NAICS 44421 | Outdoor power equipment stores.
NAICS 484 | Truck transportation.
NAICS 4862 | Pipeline transportation of natural gas.
NAICS 492 | Couriers and messengers.
NAICS 5171 | Wired telecommunications carriers.
NAICS 5172 | Wireless telecommunications carriers (except satellite).
NAICS 5173 | Telecommunications resellers.
NAICS 5621 | Waste collection.
NAICS 81299 | All other personal services.
Communications
NAICS 33422 | Radio and television broadcasting and wireless communications equipment manufacturing.
NAICS 33429 | Other communications equipment manufacturing.
NAICS 334511 | Search, detection, navigation, guidance, aeronautical and nautical system and instrument manufacturing.
NAICS 334514 | Totalizing fluid meter and counting device manufacturing.
NAICS 334515 | Instrument manufacturing for measuring and testing electricity and electrical signals.
NAICS 335311 | Power, distribution, and specialty transformer manufacturing.
NAICS 48531 | Taxi service.
NAICS 5151 | Radio and television broadcasting.
NAICS 5152 | Cable and other subscription carriers.
NAICS 5171 | Wired telecommunications carriers.
NAICS 5172 | Wireless telecommunications carriers (except satellite).
NAICS 5173 | Telecommunications resellers.
NAICS 5174 | Satellite telecommunications.
NAICS 5179 | Other telecommunications.
Electronics
NAICS 3341 | Computer and peripheral equipment manufacturing.
NAICS 33422 | Radio and television broadcasting and wireless communications equipment manufacturing.
NAICS 33429 | Other communications equipment manufacturing.
NAICS 33431 | Audio and video equipment manufacturing.
NAICS 334412 | Bare printed circuit board manufacturing.
NAICS 334413 | Semiconductor and related device manufacturing.
NAICS 334414 | Electronic capacitor manufacturing.
NAICS 334415 | Electronic resistor manufacturing.
NAICS 334416 | Electronic coil, transformer, and other inductor manufacturing.
NAICS 334417 | Electronic connector manufacturing.
NAICS 334418 | Printed circuit assembly (electronic assembly) manufacturing.
NAICS 334419 | Other electronic component manufacturing.
NAICS 334511 | Search, detection, navigation, guidance, aeronautical and nautical system and instrument manufacturing.
NAICS 334613 | Magnetic and optical recording media manufacturing.
NAICS 42342 | Office equipment merchant wholesalers.
NAICS 42343 | Computer and computer peripheral equipment and software merchant wholesalers.
Guided missiles
NAICS 332912 | Fluid power valve and hose fitting manufacturing.
NAICS 3341 | Computer and peripheral equipment manufacturing.
NAICS 33422 | Radio and television broadcasting and wireless communications equipment manufacturing.
NAICS 33429 | Other communications equipment manufacturing.
NAICS 334418 | Printed circuit assembly (electronic assembly) manufacturing.
NAICS 334511 | Search, detection, navigation, guidance, aeronautical and nautical system and instrument manufacturing.
NAICS 334613 | Magnetic and optical recording media manufacturing.
NAICS 3364 | Aerospace product and parts manufacturing.
NAICS 54131 | Architectural services.
NAICS 54133 | Engineering services.
NAICS 54136 | Geophysical surveying and mapping services.
NAICS 54137 | Surveying and mapping (except geophysical) services.
NAICS 54171 | Research and development in the physical, engineering, and life sciences.
Heavy duty equipment
NAICS 332439 | Other metal container manufacturing.
NAICS 332999 | All other miscellaneous fabricated metal product manufacturing.
NAICS 33312 | Construction machinery manufacturing.
NAICS 333923 | Overhead traveling crane, hoist, and monorail system manufacturing.
NAICS 333924 | Industrial truck, tractor, trailer, and stacker machinery manufacturing.
NAICS 33651 | Railroad rolling stock manufacturing.
NAICS 42381 | Construction and mining (except oil well) machinery and equipment wholesalers.
Shipbuilding
NAICS 336611 | Ship building and repairing.
NAICS 48839 | Other support activities for water transportation.
Sighting and fire control equipment
NAICS 333314 | Optical instrument and lens manufacturing.
NAICS 3341 | Computer and peripheral equipment manufacturing.
NAICS 33422 | Radio and television broadcasting and wireless communications equipment manufacturing.
NAICS 33429 | Other communications equipment manufacturing.
NAICS 334418 | Printed circuit assembly (electronic assembly) manufacturing.
NAICS 334511 | Search, detection, navigation, guidance, aeronautical and nautical system and instrument manufacturing.
NAICS 334613 | Magnetic and optical recording media manufacturing.
Small arms
NAICS 332994 | Small arms manufacturing.

(b) The lead agency must limit special job coverage for industries in NAICS codes 2211, 2212, 32732, 484, 4862, 5621, 492, 5171, 5172, and 5173 to automotive mechanic, diesel engine mechanic, and heavy mobile equipment mechanic.

(c) For nonappropriated fund wage surveys, the lead agency must use NAICS codes 71111, 7221, 7222, 72231, 72232, and 7224 (eating and drinking places) when it determines a wage schedule for a specialized industry.

[FR Doc. 05-22742 Filed 11-15-05; 8:45 am]

BILLING CODE 6325-39-P